ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, October 4, 2018. The meeting will be held in Room SR325 at the Russell Senate Office Building at Constitution and Delaware Avenues NE, Washington, DC, starting at 8:30 a.m.

DATES: The quarterly meeting will take place on Thursday, October 4, 2018 starting at 8:30 a.m.

ADDRESSES: The meeting will be held in Room SR325 at the Russell Senate Office Building at Constitution and Delaware Avenues NE, Washington, DC.

FOR FURTHER INFORMATION CONTACT: Tanya DeVonish, 202-517-0205, Tdevonish@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our website at www.achp.gov.

The agenda for the upcoming quarterly meeting of the ACHP is the following:

I. Chairman's Welcome

II. Presentation of the ACHP-HUD Award for Historic Preservation Achievement

III. Transition to Full-Time ACHP Chair

A. Member Questionnaire Responses

B. Strategic Plan Development

C. Unassembled Meetings

IV. Section 106 Issues:

A. Department of Veterans Affairs Program Comment on Underutilized Properties

B. Proposed Exemption Regarding Railroad and Rail Transit Rights of Way

C. Administration Infrastructure Initiatives

V. Historic Preservation Policy and Programs:

A. White House Initiative on Historically Black Colleges and Universities and the ACHP

B. ACHP Approaches to Commenting on Historic Preservation Legislation

VI. New Business

VII. Adjourn

The meetings of the ACHP are open to the public. If you need special accommodations due to a disability, please contact Tanya DeVonish, 202-517-0205 or tdevonish@achp.gov, at least seven (7) days prior to the meeting.

Authority: 54 U.S.C. 304102.

Dated: September 17, 2018.
Javier E. Marques,
General Counsel.

[FR Doc. 2018-20675 Filed 9-21-18; 8:45 am]

BILLING CODE 4310-K6-P